DEPARTMENT OF ENERGY

Federal Energy Regulatory Commission

18 CFR Chapter I

[Docket No. RM01-11-000]

Electronic Service of Documents

September 27, 2001.

AGENCY: Federal Energy Regulatory Commission, Energy.

ACTION: Notice of inquiry.

SUMMARY: The Federal Energy Regulatory Commission (Commission) is inviting comments on the advisability of modifying its regulations to permit the Commission to serve documents on parties through electronic means (eService). Further, the Commission seeks comment on whether persons are interested in a subscription service allowing for documents issued by the Commission to be “pushed” by electronic means to the individual (eDistribution). eDistribution would be unrelated to the Commission's obligation to serve parties to a proceeding. To receive eDistribution, the individual would not have to have intervened in a proceeding before the Commission. In addition, the Commission seeks comment on the Commission's role, if any, in encouraging electronic service between parties to a proceeding as contemplated by Order No. 604.¹

¹ 64 FR 31493 (June 11, 1999); FERC Stats. & Regs., Regulations Preambles July 1996-December 2000, ¶ 31,074 (May 26, 1999).

DATES: Comments on this NOI are due on November 2, 2001.

ADDRESSES: All comments should refer to Docket No. RM01-11-000 and should be addressed to: Federal Energy Regulatory Commission, 888 First Street, NE., Washington DC, 20426.

FOR FURTHER INFORMATION CONTACT:

John White, Office of the Chief Information Officer, Federal Energy Regulatory Commission, 888 First Street, NE., Washington, DC 20426, (202) 208-1812, john.white@ferc.fed.us.

Wilbur Miller, Office of General Counsel, Federal Energy Regulatory Commission, 888 First Street, NE., Washington, DC 20426, (202) 208-0953, wilbur.miller@ferc.fed.us.

SUPPLEMENTARY INFORMATION:

Federal Energy Regulatory Commission

18 CFR Chapter I

[Docket No. RM01-11-000]

Electronic Service of Documents; Notice of Inquiry

September 27, 2001.

I. Introduction

The Federal Energy Regulatory Commission (Commission) is inviting comments on a proposal to permit the service of documents by the Commission in electronic format, in order to improve the efficiency of the Commission's service (eService). The Commission is also exploring the public's interest in a separate mechanism to “push” documents it issues to individuals by electronic means without the individual having to intervene (eDistribution). Finally, the Commission invites comments whether the Commission has a role in encouraging electronic service of documents between parties. This Notice of Inquiry (NOI) is limited in scope to the issue of electronic service of the Commission's issuances and electronic service among parties. The NOI is not intended to explore other aspects of the Commission's service regulations.

II. Background and Discussion

On May 26, 1999, the Commission issued a rule in Docket No. RM99-6-000 permitting participants to proceedings before the Commission voluntarily to serve documents on one another by electronic means.² At that time, the Commission limited the scope of the rule to service among participants, and did not effect any change regarding service on or by the Commission's Office of the Secretary (OSEC).³ In this NOI, the Commission wishes to gauge the public's interest in having the Commission serve documents by electronic means.

² Id.

³ Id. at 31,495.

In order to increase the efficiency with which it carries out its program responsibilities, the Commission has been implementing measures to use information technology in order to reduce the amount of paperwork required in its proceedings, and to speed, where possible, the task of analysis. This NOI is a step in the process of replacing paper issuances with electronic issuances by exploring the advisability of a final rule allowing the formal service of issuances via electronic means.

Further, some industry sources have informed the Commission of their perception that individuals and organizations sometimes file motions to intervene to ensure being informed of developments in proceedings before the Commission. The Commission wishes to investigate the efficacy of a self-registering automated electronic distribution mechanism for the informal promulgation of the Commission's issuances. This mechanism would obviate the need for persons not interested in becoming a party to the proceeding to intervene just to be kept informed.

The Commission's regulations currently allow, among other things, the formal service of documents “to participants who have agreed to receive service via the specified electronic means.” ⁴ This regulation currently allows electronic service to occur between participants who have reached agreement on the details of how (e.g., via e-mail) and in what format (e.g., in MS-Word word-processing file format) an electronic document is to be delivered. The Commission wishes to determine what, if anything, the Commission can do to encourage electronic service among the parties to a proceeding.

⁴ 18 CFR 385.2010 (2001).

To further its goal of efficient distribution and service of documents, the Commission wishes the parties to address the following questions relating to each of the named topics.

1. eService of Commission Issuances

The Commission believes its operations would be more efficient if it were to serve its issuances via e-mail (eService of Commission Issuances, instead of sending FERC Issuances by regular mail) to parties on the Service List. Also, the Commission notes that the Administrative Office of the U.S. Courts for several years has facilitated the filing of case documents in electronic formats in four district courts and five bankruptcy courts, and plans to have this capability available to more than 200 bankruptcy, district, and appellate courts by 2005. Where applicable, the courts require attorneys to register to participate in the electronic filing process in particular cases, and automatically issue a notice (via email) to such registered attorneys when any registered attorney makes an electronic filing. Some courts have adopted service by electronic means where electronic filing was adopted.⁵

⁵ See United States Bankruptcy Court, Southern District of New York, In re Electronic Means of Filing, Signing, and Verification issued January 19, 2001 and United States Bankruptcy Court, Northern District of Georgia General Order No. 5, January 26, 2000.

In view of the above, the Commission seeks responses to the following questions:

a. Would adopting eService of Commission issuances via e-mail be easier for recipients of the documents than receiving paper service? What problems might this introduce? How might such problems be mitigated or eliminated?

b. Would recipients of eService of Commission issuances want to receive an eService e-mail as soon as the Commission issues a document? Would grouping items into a relatively few e-mails sent every two or three hours throughout the day or even grouping all items into a single e-mail at the end of the day be preferable?

c. Currently Commission issuances are available through the Commission's website in ASCII,⁶ Wordperfect format, and TIF (tagged image file format, a graphical format). Would these or other formats, such as PDF, be preferable for eService? Would a link to the document on the Commission's website be preferable (though its integrity would be guaranteed only for a specific time period)? Describe how the size of the document might influence this decision.

⁶ ASCII refers to the American Standard Code for Information Interchange, a code for character representation.

d. Under what circumstances would it be feasible for the Commission to use eService as the default method of service with the option to receive paper service only upon request?

2. eDistribution

The Commission also proposes to adopt a mechanism (eDistribution) that would permit an individual/organization to register his/her/its e-mail address in a Commission proceeding so that the individual/organization would automatically be e-mailed issuances from that proceeding without having to formally intervene. Accordingly, the Commission seeks comments on the following matters:

a. How is eDistribution a more desirable mechanism for distribution than retrieving copies of documents from the Commission Issuance Posting System and the Records Information Management System on the Commission's website?

b. Would eDistribution reduce the number of parties filing motions to intervene simply to remain aware of developments in a proceeding? To what extent is filing motions for this reason a common practice (provide percentage of interventions submitted for this purpose if known)? What other benefits might accrue from eDistribution?

c. What features would such a mechanism need to maximize its utility?

d. Would it be beneficial if the Commission were to e-mail the URLs/internet-links (e.g., in RIMS-on-the-Web) of other documents besides Commission issuances through the eDistribution mechanism? What specific benefits would accrue? What features would such a service have?

e. What, if any, private enterprises are providing a service like eDistribution? Please describe them if any exist.

f. FERC may institute a pilot program for eDistribution prior to finalizing rules on the eService of Commission Issuances. FERC is considering the imposition of a cost-recovering fee for this service. How would this affect your usage of such a service?

3. eService Between Parties

The Commission seeks comment on whether the process of electronic service between parties is working adequately or can be improved.⁷

⁷ 18 CFR 385.2010(f)(3) (2001).

a. What has been the experience of parties providing electronic service to one another?

b. Is it easy for parties to identify others who are interested in electronic service? Would designating those parties on the Service List who have expressed a willingness to participate in electronic service expedite the parties efforts to arrange electronic service?

c. In what ways could the Commission encourage the more widespread adoption of e-service between parties? For example, should the Commission be a central repository for e-mail addresses of parties who wish to serve or be served electronically?

d. What improvements could be made to the online service list at fercdocket.ferc.fed.us/pa/pa.htm?

III. Procedure for Comments

The Commission invites interested persons to submit comments, data, views, and other information concerning the matters set out in this notice.

To facilitate the Commission's review of the comments, commenters are requested to provide an executive summary of their position on the issues raised in the Notice of Inquiry. To facilitate the Commission's review of the comments, commenters are requested to identify each specific question posed by the NOI that their discussion addresses and to use appropriate headings. Additional issues the commenters wish to raise should be identified separately. The commenters should double space their comments.

Comments may be filed on paper or electronically via the Internet and must be received by the Commission by November 2, 2001. Those filing electronically do not need to make a paper filing. For paper filings, the original and 14 copies of such comments should be submitted to the Office of the Secretary, Federal Energy Regulatory Commission, 888 First Street, NE., Washington DC 20426 and should refer to Docket No. RM01-11-000.

Comments filed via the Internet must be prepared in WordPerfect, MS Word, Portable Document Format, or ASCII format. To file the document, access the Commission's website at www.ferc.gov and click on “E-Filing,” and then follow the instructions for each screen. First time users will have to establish a user name and password. The Commission will send an automatic acknowledgment to the sender's E-Mail address upon receipt of comments.

User assistance for electronic filing is available at 202-208-0258 or by E-Mail to efiling@ferc.fed.us. Comments should not be submitted to the E-Mail address. All comments will be placed in the Commission's public files and will be available for inspection in the Commission's Public Reference Room at 888 First Street, NE., Washington, DC 20426, during regular business hours. Additionally, all comments may be viewed, printed, or downloaded remotely via the Internet through The Commission's Homepage using the RIMS link. User assistance for RIMS is available at 202-208-2222, or by E-Mail to rimsmaster@ferc.fed.us.

IV. Document Availability

In addition to publishing the full text of this document in the Federal Register, the Commission provides all interested persons an opportunity to view and/or print the contents of this document via the Internet through the Commission's website (http://www.ferc.gov) and in the Commission's Public Reference Room during normal business hours (8:30 a.m. to 5 p.m. Eastern time) at 888 First Street, NE., Room 2A, Washington, DC 20426.

From the Commission's website on the Internet, this information is available in both the Commission Issuance Posting System (CIPS) and the Records and Information Management System (RIMS).

—CIPS provides access to the texts of formal documents issued by the Commission since November 14, 1994.

—The full text of this document is available on CIPS in ASCII and WordPerfect 8.0 format for viewing, printing, and/or downloading.

—RIMS contains images of documents submitted to and issued by the Commission after November 16, 1981. Documents from November 1995 to the present can be viewed and printed from the Commission's website using the RIMS link. Descriptions of documents back to November 16, 1981, are also available from RIMS-on-the-Web; requests for copies of these and other older documents should be submitted to the Public Reference Room.

User assistance is available for RIMS, CIPS, and the website during normal business hours from our Help line at (202) 208-2222 (E-Mail to WebMaster@ferc.fed.us) or the Public Reference Room at (202) 208-1371 (E-Mail to public.referenceroom@ferc.fed.us).

During normal business hours, documents can also be viewed and/or printed in the Commission's Public Reference Room, where RIMS, CIPS, and the Commission's website are available. User assistance is also available.

By direction of the Commission.
David P. Boergers,
Secretary.

[FR Doc. 01-24801 Filed 10-3-01; 8:45 am]

BILLING CODE 6717-01-P